DEPARTMENT OF THE INTERIOR

Bureau of Land Management

[LLCAC01000 L10200000 XZ0000 LXSIOVHD0000]

Public Meeting of the Central California Resource Advisory Council

AGENCY: Bureau of Land Management, Interior.

ACTION: Notice.

SUMMARY: In accordance with the Federal Land Policy and Management Act and the Federal Advisory Committee Act of 1972, the U.S. Department of the Interior, Bureau of Land Management (BLM) Central California Resource Advisory Council (RAC) will meet as indicated below.

DATES: The meeting will be held Friday, Sept. 17, 2010, at the Harris Ranch, 24505 West Dorris Avenue, Coalinga, CA, beginning at 9 a.m. Time for public comment is reserved from 11 a.m. to noon.

On Sept. 18, RAC members will tour lands managed by BLM's Hollister Field Office west of Interstate 5.

FOR FURTHER INFORMATION CONTACT: BLM Central California District Manager Kathy Hardy, (916) 978-4626; or BLM Public Affairs Officer David Christy, (916) 941-3146.

SUPPLEMENTARY INFORMATION: The 12-member council advises the Secretary of the Interior, through the BLM, on a variety of planning and management issues associated with public land management in Central California. At this meeting, agenda topics will include an update on Resource Management Plans and other resource management issues. Additional ongoing business will be discussed by the council. All meetings are open to the public. Members of the public may present written comments to the council. Each formal council meeting will have time allocated for public comments. Depending on the number of persons wishing to speak, and the time available, the time for individual comments may be limited. The meeting and tour are open to the public, but individuals who wish to attend the tour must provide their own vehicles, food and water. High-clearance vehicles are recommended for the tour. Individuals who plan to attend and need special assistance, such as sign language interpretation and other reasonable accommodations, should contact the BLM as provided above.

Dated: August 6, 2010.
David Christy,
Public Affairs Officer.

[FR Doc. 2010-20303 Filed 8-16-10; 8:45 am]

BILLING CODE 4310-40-P